DEPARTMENT OF EDUCATION

President's Advisory Commission on Asian Americans and Pacific Islanders

AGENCY: President's Advisory Commission on Asian Americans and Pacific Islanders, U.S. Department of Education.

ACTION: Announcement of an open meeting.

SUMMARY: This notice sets forth the schedule and agenda of the meeting of the President's Advisory Commission on Asian Americans and Pacific Islanders (AAPI Commission). The notice also describes the functions of the Commission. Notice of the meeting is required by § 10(a)(2) of the Federal Advisory Committee Act and is intended to notify the public of its opportunity to attend.

DATES: The AAPI Commission meeting will be held over two days.

Day 1: Thursday, September 24, 2015 from 1:30 p.m.-4:30 p.m. HST, Hawaii Convention Center, 1801 Kalakaua Avenue, Honolulu, HI 96815.

Day 2: Friday, September 25, 2015 from 9:00 a.m.-3:00 p.m. HST, USCIS Field Office, 500 Ala Moana Boulevard, Building Two, 4th Floor, Honolulu, HI 96813.

Please Note: The Hawaii Convention Center's parking garage is located on the 2nd floor of the facility and the entrance is located on Kalakaua Avenue. The daily parking rate is $10.00 per entry. Parking at the UCSIS Office is available at the Waterfront Plaza and on nearby streets. A parking fee will also be assessed. For the meeting on Friday, September 25, visitors will be granted access to the USCIS Office up to 30 minutes in advance of the meeting. To enter the USCIS Office, visitors must present a valid, unexpired photo ID issued by the federal government or a state government.

FOR FURTHER INFORMATION CONTACT: Doua Thor, White House Initiative on Asian Americans and Pacific Islanders, Potomac Center Plaza, 550 12th Street SW., Washington, DC 20202; telephone: 202-245-6329, fax: 202-245-7166.

SUPPLEMENTARY INFORMATION:

The AAPI Commission's Statutory Authority and Function: The President's Advisory Commission on Asian Americans and Pacific Islanders is established under Executive Order 13515, dated October 14, 2009 and subsequently continued and amended by Executive Order 13585 and Executive Order 13652. The AAPI Commission is governed by the provisions of the Federal Advisory Committee Act (FACA), (P.L 92-463; as amended, 5 U.S.C.A. app.) which sets forth standards for the formation and use of advisory committees. According to Executive Order 13515, the AAPI Commission shall provide advice to the President, through the Secretary of Education and a senior official designated by the President, on: (i) The development, monitoring, and coordination of executive branch efforts to improve the quality of life of Asian Americans and Pacific Islanders (AAPIs) through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

On Thursday, September 24, 2015 at the Hawaii Convention Center from 1:30 p.m. to 4:30 p.m. HST, the AAPI Commission will engage in a listening session with members of the public. Individuals are invited to attend and/or offer remarks during the session. The AAPI Commission is particularly interested in hearing from the public about the following issues: Economic development/housing; education, including impact of bullying on youth; civil rights; effects of climate change; immigration; health, including mental health; veteran affairs; and women's and workers issues. Individuals will be allowed to offer remarks for up to 2 minutes. Individuals who wish to attend the listening session as an audience member or presenter must RSVP via email at WhiteHouseAAPI@ed.gov no later than September 16, 2015 at 3:00 p.m. EDT. The RSVP for attendance and/or making remarks must include name, title, organization/affiliation, email address, and telephone number of the person joining the session. Individuals who would like to offer remarks must also send a brief summary (not to exceed one paragraph) of the principal points to be made during the oral presentation to WhiteHouseAAPI@ed.gov. Due to time constraints, only a limited number of speakers can be accommodated. Spots will be given at first opportunity and individuals will receive written confirmation at least 5 days prior to the meeting. Individuals who are unable to attend the listening session may submit written remarks (not to exceed two pages double-spaced, 12 pt. font) to Doua Thor via email at WhiteHouseAAPI@ed.gov no later than September 16, 2015 at 3:00 p.m. ET.

On Friday, September 25, 2015, the public may join the AAPI Commission meeting; however there will NOT be a public comment period. For both days, individuals who wish to attend the meeting must RSVP to Doua Thor via email at WhiteHouseAAPI@ed.gov no later than September 16, 2015 at 3:00 p.m. ET. The RSVP must include name, title, organization/affiliation, email address, and telephone number of the person attending the meeting.

Meeting Agenda

The purpose of the listening session on Thursday September 24, 2015 is for the AAPI Commission to hear about issues that are pertinent and relevant to the AAPI community in that region. The Commission is particularly interested in hearing from the public about the following issues: Education, climate change, immigration, civil rights, veteran affairs, mental health, and the impact of bullying on youth. In addition, the Commission would like to hear first-hand testimonials regarding new and developing issues, stories of impact, and model programs. The purpose for the meeting on Friday, September 25, 2015 is to discuss how the Commission can support current and future endeavors of the White House Initiative on Asian Americans and Pacific Islanders; key issues and concerns impacting the AAPI community; review the work of the White House Initiative on Asian Americans and Pacific Islanders; determine key strategies to help the AAPI Commission meet its charge outlined in Executive Order 13515; and determine regional engagement strategies and deliverables around regional activities.

Access to Records of the Meeting: The Department will post the official report of the meeting on the AAPI Commission Web site not later than 90 days after the meeting. Pursuant to the FACA, the public may also inspect the materials at 550 12th Street SW., Washington, DC 20202 by emailing WhiteHouseAAPI@ed.gov or by calling (202) 245-6329 to schedule an appointment.

Reasonable Accommodations: The meeting sites are accessible to individuals with disabilities. Individuals who will need accommodations for a disability in order to attend the meetings (e.g., interpreting services, assistive listening devices, or material in alternative format) should notify Doua Thor at 202-245-6329, no later than September 16, 2015. We will attempt to meet requests for accommodations after this date, but cannot guarantee their availability.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department. Authority: Executive Order No. 13515, as amended by Executive Orders 13585 and 13652.

Ted Mitchell,
Under Secretary, U.S. Department of Education.

[FR Doc. 2015-21654 Filed 8-31-15; 8:45 am]

BILLING CODE 4000-01-P